DEPARTMENT OF COMMERCE

National Oceanic and Atmospheric Administration

RIN 0648-XG238

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a two day meeting of its Standing and Reef Fish Scientific and Statistical Committees (SSC).

DATES: The meeting will convene on Thursday, May 31, 2018, 8:30 a.m. to 5:30 p.m., and Friday, June 1, 2018, 8:30 a.m. to 2:30 p.m. EDT.

ADDRESSES: The meeting will be held in the Gulf Council's Conference Room.

Council address: Gulf of Mexico Fishery Management Council, 2203 N Lois Avenue, Suite 1100, Tampa, FL 33607; telephone: (813) 348-1630.

FOR FURTHER INFORMATION CONTACT: Steven Atran, Senior Fishery Biologist, Gulf of Mexico Fishery Management Council; steven.atran@gulfcouncil.org, telephone: (813) 348-1630.

SUPPLEMENTARY INFORMATION:

Day 1—Thursday, May 31, 2018; 8:30 a.m.-5:30 p.m.

I. Introductions and Adoption of Agenda

II. Approval of March 26-27, 2018 SSC Minutes

III. Selection of SSC representative at June 18-22, 2018 Council meeting in Key West, FL

Standing and Reef Fish SSC Session

IV. SEDAR 37 Update (FWC hogfish assessment)

a. Review of assessment

b. OFL and ABC recommendations

V. SEDAR 51 (gray snapper benchmark assessment)

a. Review of assessment

b. OFL and ABC recommendations

VI. SEDAR 52 (red snapper standard assessment)

a. Review of assessment

b. Discard mortality estimates of red snapper by sector

c. Estimate of the reduction in mortality (numbers of fish) for red snapper from use of venting and descending devices

d. OFL and ABC recommendations

Day 2—Friday, June 1, 2018; 8:30 a.m.-2:30 p.m.

VI. Continuation of SEDAR 52 (red snapper standard assessment)

VII. SEDAR 64 (yellowtail snapper benchmark assessment)

a. Review and approval of terms of reference

b. Review and approval of schedule

c. Data, assessment, and review workshop appointments

VIII. Discussion on Best Scientific Information Available

a. Review of National Standard 2

b. Council Coordinating Committee comments

IX. Draft Reef Fish Amendment 48/Red Drum Amendment 5

a. Review of MSY Proxy Paper, “Establishing Stock Status Determination Criteria for Fisheries with High Discards and Uncertain Recruitment” by Goethel et al.

b. Review of draft amendment

X. Tentative 2018 SSC Meeting Dates

XI. Other Business—Adjourn

The meeting will be broadcast via webinar. You may register for the webinar by visiting www.gulfcouncil.org and clicking on the SSC meeting on the calendar. https://attendee.gotowebinar.com/register/3383291116212545537-. The Agenda is subject to change, and the latest version along with other meeting materials will be posted on www.gulfcouncil.org as they become available.

Although other non-emergency issues not on the agenda may come before the Scientific and Statistical Committee for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: May 9, 2018.
Rey Israel Marquez,
Acting Deputy Director, Office of Sustainable Fisheries, National Marine Fisheries Service.

[FR Doc. 2018-10180 Filed 5-11-18; 8:45 am]

BILLING CODE 3510-22-P